ENVIRONMENTAL PROTECTION AGENCY

[EPA-R05-SFUND-2023-0315; FRL-11033-01-Region 5]

Proposed Prospective Purchaser Agreement for the Buick City Site in Flint, Michigan

AGENCY: Environmental Protection Agency (EPA).

ACTION: Notice; request for public comment.

SUMMARY: In accordance with the Prospective Purchaser Agreement, notice is hereby given of a proposed administrative settlement concerning Buick City Site in Flint, Michigan with the following Settling Party: Flint Commerce Center, LLC. The settlement requires the Settling Party to, if necessary, execute and record a Declaration of Restrictive Covenant; provide access to the Site and exercise due care with respect to existing contamination. The settlement includes a covenant not to sue the Settling Party pursuant to the Comprehensive Environmental Response, Compensation, and Liability Act or the Resource Conservation and Recovery Act with respect to the Existing Contamination. Existing Contamination is defined as any hazardous substances, pollutants, or contaminants or Waste Material present or existing on or under the Property as of the Effective Date of the Settlement Agreement; any hazardous substances, pollutants, or contaminants or Waste Material that migrated from the Property prior to the Effective Date; and any hazardous substances, pollutants, or contaminants or Waste Material presently at the Site that migrates onto, on, under, or from the Property after the Effective Date. For thirty (30) days following the date of publication of this notice, the Agency will receive written comments relating to the settlement. The Agency will consider all comments received and may modify or withdraw its consent to the settlement if comments received disclose facts or considerations which indicate that the settlement is inappropriate, improper, or inadequate. The proposed settlement is available for public inspection at https://www.regulations.gov. The Agency's response to any comments received will be available for public inspection at the EPA, Region 5, Records Center, 77 W Jackson Blvd., 7th Fl., Chicago, Illinois 60604. Commenters may request an opportunity for a public hearing in the affected area, in accordance with section 7003(d) of RCRA.

DATES: Comments must be submitted on or before July 24, 2023.

ADDRESSES: You may send comments, identified by Docket ID No. EPA-R05-SFUND-2023-0315, by any of the following methods:

• Federal eRulemaking Portal: https://www.regulations.gov/ (our preferred method). Follow the online instructions for submitting comments.

• Mail: U.S. Environmental Protection Agency, ATTN: Mark Koller, Associate Regional Counsel, Office of Regional Counsel (C-14J), 77 W Jackson Blvd., Chicago, Illinois 60604.

Instructions: All submissions received must include the Docket ID No. for this rulemaking. Comments received may be posted without change to https://www.regulations.gov/, including any personal information provided. For detailed instructions on sending comments and additional information on the rulemaking process, see the “Public Participation” heading of the SUPPLEMENTARY INFORMATION section of this document.

FOR FURTHER INFORMATION CONTACT: Mark Koller, Office of Regional Counsel, Environmental Protection Agency, telephone number: (312) 353-2591; email address: koller.mark@epa.gov.

SUPPLEMENTARY INFORMATION:

I. Public Participation

A. Written Comments

Submit your comments, identified by Docket ID No. EPA-R05-SFUND-2023-0315, at https://www.regulations.gov (our preferred method), or the other methods identified in the ADDRESSES section. Once submitted, comments cannot be edited or removed from the docket. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, the full EPA public comment policy, information about CBI or multimedia submissions, and general guidance on making effective comments, please visit https://www.epa.gov/dockets/commenting-epa-dockets.

II. Background Information

The Settling Party proposes to acquire ownership of a portion of the former General Motors Corporation North American operation, at 902 E Leith St. in Flint, Michigan. The Site is one of the 89 sites that were placed into an Environmental Response Trust (the “Trust”) as a result of the resolution of the 2009 GM bankruptcy. The Trust is administrated by Revitalizing Auto Communities Environmental Response.

Douglas Ballotti,
Director, Superfund & Emergency Management Division, Region 5.

[FR Doc. 2023-13231 Filed 6-21-23; 8:45 am]

BILLING CODE 6560-50-P